DEPARTMENT OF THE INTERIOR

Bureau of Land Management

[CO200-2920-EQ]

Notice of Realty Action; Land Use Authorization for Public Lands in Fremont and Chaffee Counties, CO

AGENCY: Bureau of Land Management, Interior.

ACTION: Notice of realty action.

SUMMARY: Christo and Jeanne Claude Over the River Corporation (OTR Corp.) has submitted a written proposal for a land use authorization to construct and display a temporary work of art titled Over the River™, pursuant to Section 302 of the Federal Land Policy and Management Act of 1976 (43 U.S.C. 1732), using noncompetitive permit procedures as provided in regulations at 43 CFR 2920. Interested parties may submit comments to the BLM at the address stated below with respect to:

(1) The decision of the BLM regarding the potential availability of the lands described herein, and

(2) The decision of the BLM to entertain an application from OTR Corp. for a non-competitive land use permit.

DATES: Interested parties may submit comments in writing to the BLM at the address given below on or before December 15, 2008.

ADDRESSES: Field Manager, Royal Gorge Field Office, Bureau of Land Management, 3028 East Main Street, Cañon City, Colorado 81212.

FOR FURTHER INFORMATION CONTACT: Joe Vieira, at the address given above, by e-mail at rgfo_comments@blm.gov, or by phone at (719) 269-8708.

SUPPLEMENTARY INFORMATION: The Over the River™ proposal submitted by OTR Corp. includes exhibit installation, a large-scale art exhibition and visitor event, and exhibit removal actions, including site restoration. The Over the River™ proposal would involve 911 porous fabric panels, weighing an average 140 lbs/panel, suspended 8 to 25 feet above the water for a total of 5.9 miles over a 40 mile stretch of the Arkansas River, between Cañon City and Salida. The public art project would be constructed utilizing an estimated 8,992 steel anchors drilled along and into the banks of the Arkansas River to support 2,247 steel anchor transition frames for an estimated 1,264 steel cables that would support the fabric panels. OTR Corp also proposes a 4,000 square foot temporary building and a temporary gravel access road on the public land to stage art installation and removal as well as manage the large-scale visitor event. The entire Over the River™ event would attract an estimated 560,000 visitors over the course of 700-days from installation to removal.

The public land, consisting of approximately 2,470 acres, is in western Fremont and southeast Chaffee Counties, and within the Arkansas River corridor between the cities of Cañon City and Salida, Colorado. The footprint of the actual project will encumber approximately 310 acres of the lands listed below. The lands are located within:

Sixth Principal Meridian, Colorado

T. 18 S., R. 72 W.,

Sec. 14, lot 2, E½NW¼, and SW¼NW¼;

Sec. 15, SE¼NE¼, SW¼, and N½SE¼;

Sec. 20, E½SE¼;

Sec. 21, NW¼NE¼, NE¼NW¼, W½NW¼, and W½SW¼;

Sec. 30, N½NE¼;

T. 18 S., R. 73 W.,

Sec. 25, N½SW¼, and NW¼SE¼;

Sec. 26 NE¼SE¼;

T. 19 S., R. 73 W.,

Sec. 4, S½NW¼, and N½SW¼;

Sec. 5, S½;

Sec. 7, lots 5, 10 and 11, MS 326, tract 46B, and tract 46A excluding those lands conveyed by Patent No. 3713;

Sec. 8, NW¼NW¼, MS 326.

New Mexico Principal Meridian, Colorado

T. 49 N., R. 9 E.,

Sec. 10, lot 19;

Sec. 13, SW¼NW¼;

Sec. 14, N½N½ excluding MS 18410, S½NE¼, and SE¼NW¼;

Sec. 15, N½NE¼NE¼, SW¼NE¼NE¼, and NW¼NE¼;

T. 49 N., R 10 E.,

Sec. 28, lots 4, 5, and 6;

Sec. 29, lots 1 and 8;

T. 48 N., R. 11 E.,

Sec. 18, E½NW¼SE¼, and SE¼SE¼.

Extensive scoping has been completed on the proposed project. Three public meetings were held in Cañon City, Cotopaxi, and Salida, Colorado. Over 700 people attended the public meetings.

The BLM has determined the proposed use of the above described tracts of land is in conformance with the Royal Gorge Resource Management Plan (May 1996), and that the above described land is available for that use. Natural resource and public safety issues have been identified and will be addressed in the Environmental Impact Statement including:

• Arkansas Canyonlands Area of Critical Environmental Concern (ACEC);

• Scenic (visual) resources;

• Bighorn sheep habitat;

• Raptor and migratory bird habitat;

• Recreation resources;

• Physical resources;

• Cultural/historic resources.

The BLM will estimate the costs of processing the land use permit application. Before the BLM begins to process the application, the applicant must pay the full amount of the estimated costs to the United States. If a land use permit is not granted, the applicant must pay to the United States, in addition to the estimated costs, the reasonable costs incurred by the BLM in processing the land use permit in excess of the estimated costs.

Adverse comments will be evaluated by the BLM Field Manager, Royal Gorge Field Office, who may sustain, vacate or modify this realty action. In the absence of any adverse comment, this realty action will become a final determination of the BLM as to each one of the two decisions stated above.

Roy L. Masinton,
Field Manager, Royal Gorge Field Office.

[FR Doc. E8-26076 Filed 10-30-08; 8:45 am]

BILLING CODE 4310-JB-P